DEPARTMENT OF THE INTERIOR

Fish and Wildlife Service

[FWS-R5-ES-2010-N182; 50120-1113-0000-F2]

Preparation of an Environmental Impact Statement for Issuance of an Incidental Take Permit Associated With a Habitat Conservation Plan for the Beech Ridge Wind Energy Project, Greenbrier and Nicholas Counties, West Virginia; Re-opening and Extension of Comment Period

AGENCY: Fish and Wildlife Service, Interior.

ACTION: Notice; re-opening of comment period; extension of comment period.

SUMMARY: In response to substantial public interest and requests to extend the comment period, we, the U.S. Fish and Wildlife Service, extend the scoping period on a notice of intent to gather information necessary to prepare an Environmental Impact Statement (EIS) on the proposed issuance of an Endangered Species Act (ESA) permit (incidental take permit and associated Habitat Conservation Plan) for the Beech Ridge Wind Energy Project (HCP). Pursuant to the National Environmental Policy Act (NEPA), we seek suggestions and information from the public on the scope of issues and alternatives to be included in the EIS. Comments previously submitted need not be resubmitted as they have been incorporated into the public record and will be fully considered in the final decision on the permit application.

DATES: The public comment period that closed on August 23, 2010, (75 FR 42767) is reopened and extended until September 23, 2010.

ADDRESSES: Information, written comments, or questions related to the preparation of the EIS and NEPA process should be submitted to Ms. Laura Hill, Assistant Field Supervisor, U.S. Fish and Wildlife Service, West Virginia Field Office, 694 Beverly Pike, Elkins, West Virginia 26241; FAX 304-636-7824; or fw5es_wvfo@fws.gov.

FOR FURTHER INFORMATION CONTACT: Ms. Laura Hill (See ADDRESSES) at 304-636-6586, extension18. Individuals who are hearing-impaired or speech-impaired may call the Federal Relay Service at 800-877-8337 for TTY assistance.

SUPPLEMENTARY INFORMATION:

Public Comments Solicited

On July 22, 2010, we published in the Federal Register (75 FR 42767) a notice of intent to prepare an EIS and a notice of a meeting. On August 9, 2010, we held a public meeting in Rupert, West Virginia, to provide information on the proposed action and to solicit comments and suggestions from the public on the scope of issues and alternatives to be addressed in the draft EIS. The scoping comment period closed on August 23, 2010; however, due to substantial public interest in the proposed action and receipt of requests to extend the comment period, we are hereby reopening and extending the comment period until September 23, 2010.

As stated in the July 22, 2010, Federal Register notice, we seek comments, in particular, concerning: (1) Biological information concerning the Indiana bat and Virginia big-eared bat, as well as unlisted bats and birds; (2) relevant data concerning wind power and bat and bird interactions; (3) additional information concerning the range, distribution, population size, and population trends of the Indiana bat and Virginia big-eared bat, as well as unlisted bats and birds; (4) current or planned activities in the subject area and their possible impacts on the environment and resources; (5) the presence of facilities within the project area which are eligible to be listed on the National Register of Historic Places or whether other historical, archeological, or traditional cultural properties may be present; (6) the direct, indirect, and cumulative effects that implementation of any reasonable alternatives could have on endangered and threatened species and their habitats, as well as unlisted bats and birds; (7) adequacy and advisability of proposed minimization and mitigation measures for ESA listed species and other wildlife; (8) post-construction monitoring techniques; and (9) identification of any other environmental issues that we should consider with regard to the proposed development and permit action.

We welcome written comments from interested parties to ensure that the full range of issues related to the permit request is identified. Comments will only be accepted in written form. You may submit written comments by regular mail, electronic mail, or facsimile transmission (see ADDRESSES).

All comments and materials we receive, including names and addresses, will become part of the administrative record and may be released to the public. Comments we receive will be available for public inspection, by appointments, during normal business hours (Monday through Friday; 8 a.m. to 4 p.m.) at the West Virginia Field Office (see ADDRESSES). Before including your address, phone number, e-mail address, or other personal identifying information in your comment, you should be aware that your entire comment—including your personal identifying information—may be made publicly available at any time. While you may ask us in your comment to withhold personally identifying information from public review, we can not guarantee that we will be able to do so.

Background

For background information, please refer to the previous Federal Register Notice (75 FR 42767) published on July 22, 2010.

Author

The primary author of this notice is Laura Hill, U.S. Fish and Wildlife Service, West Virginia Field Office.

Authority

The authority for this section is the Endangered Species Act of 1973, as amended (16 U.S.C. 1531 et seq.) and National Environmental Policy Act, as amended, (42 U.S.C. 4321 et seq.)

Dated: August 23, 2010.
Anthony D. Léger,
Acting Regional Director, Region 5, U.S. Fish and Wildlife Service.

[FR Doc. 2010-21337 Filed 8-26-10; 8:45 am]

BILLING CODE 4310-55-P